DEPARTMENT OF COMMERCE

National Oceanic and Atmospheric Administration

Agency Information Collection Activities; Submission to the Office of Management and Budget (OMB) for Review and Approval; Comment Request; Basic Requirements for Special Exception Permits and Authorizations To Take, Import, and Export Marine Mammals, Threatened and Endangered Species, and for Maintaining a Captive Marine Mammal Inventory Under Section 104 of the Marine Mammal Protection Act, the Fur Seal Act, and/or Section 10(a)(1)(A) of the Endangered Species Act

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 28, 2023, during a 60-day comment period. This notice allows for an additional 30 days for public comments.

Agency: National Oceanic & Atmospheric Administration (NOAA), Commerce.

Title: Basic Requirements for Special Exception Permits and Authorizations to Take, Import, and Export Marine Mammals, Threatened and Endangered Species, and for Maintaining a Captive Marine Mammal Inventory Under section 104 of the Marine Mammal Protection Act, the Fur Seal Act, and/or section 10(a)(1)(A) of the Endangered Species Act.

OMB Control Number: 0648-0084.

Form Number(s): NOAA FORMs 89-880, 89-881, and 89-882.

Type of Request: Regular submission (extension of a current information collection).

Number of Respondents: 423.

Average Hours per Response: The estimated average amount of time it takes to complete each information collection instrument is as follows. Scientific research and enhancement permit applications, 50 hours; public display permit applications, 50 hours; protected species parts applications, 20 hours; photography permit applications, 10 hours; General Authorization Letters of Intent, 10 hours; major permit modification requests, 35 hours; minor permit modification requests, 3 hours; scientific research permit reports, 12 hours; scientific research parts only permit reports, 8 hours; General Authorization reports, 8 hours; public display permit reports, 2 hours; photography permit reports, 2 hours; public display inventory reporting, 2 hours; and general record keeping, 2 hours per each type.

Total Annual Burden Hours: 6,568.

Needs and Uses: The National Marine Fisheries Service (NMFS), Office of Protected Resources, Permits and Conservation Division is proposing an extension of the currently approved information collection OMB Control Number 0648-0084. The information collection request (IRC) is under the authority of the Marine Mammal Protection Act (MMPA), the Fur Seal Act (FSA), and the Endangered Species Act (ESA). This information collection applies to certain protected species for which NMFS is responsible: cetaceans (whales, dolphins and porpoises) and pinnipeds (seals and sea lions); and, for ESA scientific research and enhancement permits: smalltooth sawfish, sea turtles (in water), sturgeon (Atlantic and shortnose), and certain foreign ESA-listed species. This information collection may be used for future ESA-listed species.

The MMPA, FSA, and ESA prohibit “take” (e.g., to harass or harm), import, and export of marine mammals and endangered and threatened species, with limited exceptions. Pursuant to section 104 of the MMPA and section 10(a)(1)(A) of the ESA, individuals, business or other for-profit organizations, not-for-profit institutions, and government agencies may obtain special exception permits to take, import, or export marine mammals or endangered or threatened species for scientific research or enhancement purposes. Section 104 of the MMPA also provides for Letters of Confirmation under a General Authorization for scientific research; permits for commercial and educational photography of marine mammals; and permits for capture and/or import of marine mammals for public display.

Persons or institutions seeking to take, import, or export protected species must apply for a permit or authorization and demonstrate the statutory and regulatory requirements are met. The regulations pertaining to permits and associated reporting under the MMPA and FSA are at 50 CFR part 216; the regulations for permit requirements under the ESA are at 50 CFR part 222. The required information in this collection is used by NMFS to make the determinations required by the MMPA, FSA, ESA, and their implementing regulations prior to issuing a permit or authorization; to establish appropriate conditions; to evaluate the impacts on protected species; and, to ensure compliance with the Acts.

Information required includes the name, affiliation, contact information and qualifications of the applicant and others listed on the application; the purpose of the request; the species, age, sex, and number of animals; the proposed methods and mitigation to minimize impacts to the species; a description of the impacts to the species and environment; and the requested time frame of the permit. Permit and authorization holders must submit reports on the activities they carry out.

The MMPA requires NMFS to maintain an inventory of marine mammals in public display facilities and for those facilities to report certain information to NMFS via the National Inventory of Marine Mammals (NIMM). The NIMM forms include an institutional contact form, a marine mammal data sheet (MMDS), and a transfer/transport notification form. Inventory information required by the MMPA includes the animal's name or other identification; sex; birth date; date animal enters and leaves a collection; source of the animal (e.g., stranding); where an animal is transferred or transported; and date and cause of death (when determined). Exporting facilities must provide documentation to NMFS that the recipient facility meets standards comparable to those required in the United States. The NIMM forms facilitate compliance with MMPA reporting requirements and allow NMFS to keep NIMM up to date. Based on public comment on the previous PRA notice, we simplified the blank MMDS to only include information necessary for reporting a birth, release, or death, and included definitions for the fields on the MMDS. We are not proposing any changes to the MMDS or the other NIMM forms at this time.

NMFS had originally proposed to provide additional guidance to improve the reasonableness of our applicant's take estimates and the accuracy of their subsequent reporting. However, we are no longer proposing those changes due to resource limitations at this time. We plan to work on developing additional take guidance for permit applicants as time and resources allow.

Affected Public: Individuals; Business or other for-profit organizations; Not-for-profit institutions; State, Local, or Tribal government; Federal government.

Frequency: Permit applications, once every five or ten years; permit reports, annually or more frequently if incidents occur; amendments and modifications to permits, as frequently as requested by permit holders; public display inventory reporting, 15 days prior to transporting or transferring marine mammals and 30 days after the date of birth or death of a marine mammal.

Respondent's Obligation: Public display forms are mandatory; permit applications are required to receive a permit.

Legal Authority: MMPA (16 U.S.C. 1361 et seq.), FSA (16 U.S.C. 1151 et seq.), and ESA (16 U.S.C. 1531 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0084.

Sheleen Dumas,
Department PRA Clearance Officer, Office of the Under Secretary for Economic Affairs, Commerce Department.

[FR Doc. 2023-23250 Filed 10-19-23; 8:45 am]

BILLING CODE 3510-22-P